DEPARTMENT OF COMMERCE

National Institute of Standards and Technology

Proposed Information Collection; Comment Request; Organization of Scientific Area Committees (OSAC) Membership Application

AGENCY: National Institute of Standards and Technology, Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before October 27, 2014.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Richard Cavanagh, Director, Office of Special Programs, NIST, 100 Bureau Drive, Gaithersburg, MD 20899-4701; 301-975-4447; richard.cavanagh@nist.gov.

SUPPLEMENTARY INFORMATION:

I. Abstract

NIST established an Organization of Scientific Area Committees (OSAC) to enable a coordinated U.S. approach to Standards for the Forensic Science Disciplines. NIST seeks broad participation from Forensic Science Practitioners, Researchers, Metrologists, Accreditation Bodies, Defense, and Prosecution. NIST solicits self-nominations from these communities, using the OSAC Membership Application, to identify individuals interested and qualified to contribute.

II. Method of Collection

The OSAC Membership Application may be completed and submitted only via web-based application.

III. Data

OMB Control Number: 0693-0070.

Form Number(s): None.

Type of Review: Regular submission (reinstatement without change of a previously approved collection).

Affected Public: Individuals or households.

Estimated Number of Respondents: 2,500.

Estimated Time per Response: 30 minutes.

Estimated Total Annual Burden Hours: 1,250.

Estimated Total Annual Cost to Public: $0.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: August 20, 2014.
Gwellnar Banks,
Management Analyst, Office of the Chief Information Officer.

[FR Doc. 2014-20230 Filed 8-25-14; 8:45 am]

BILLING CODE 3510-04-P